DEPARTMENT OF THE INTERIOR

Bureau of Land Management

[LLAKA01300-14300000.ER0000; AA-091143]

Notice of Realty Action: Recreation and Public Purposes Lease, Anchorage, AK

Correction

In notice document E9-4488 beginning on page 9263 in the issue of Tuesday, March 3, 2009, make the following correction:

On page 9263, the subject should read as it appears above.

[FR Doc. Z9-4488 Filed 3-9-09; 8:45 am]

BILLING CODE 1505-01-D